DEPARTMENT OF JUSTICE

Notice of Lodging of Settlement Pursuant to Comprehensive Environmental Response, Compensation and Liability Act and Other Authorities

Notice is hereby given that on October 1, 2007, a proposed settlement in United States v. Textron Systems Corporation, Civil No. 1:07-cv-11846-NG, and Commonwealth of Massachusetts v. Textron Systems Corporation, Civil No. 1:07-cv-11848-NG, was lodged with the United States District Court for the District of Massachusetts.

In these actions, (1) the United States resolves claims for cost recovery, injunctive relief, natural resource damages and contractual relief against Textron Systems Corporation pursuant to Sections 106 and 107 of the Comprehensive Environmental Response, Compensation and Liability Act (CERCLA), 42 U.S.C. 9606 and 9607; Section 7003 of the Resource Conservation and Recovery Act (RCRA), 42 U.S.C. 6973; Section 1431 of the Safe Drinking Water Act (SDWA), 42 U.S.C. 300; ch. 21E of the Massachusetts Oil and Hazardous Material Release Prevention and Response Act; and contracts between the United States and Textron Systems Corporation related to the Massachusetts Military Reservation Site on Cape Cod, Massachusetts (MMR or the Site); and (2) the Commonwealth of Massachusetts resolves claims for natural resource damages pursuant to Section 107 of CERCLA, 42 U.S.C. 9607, and ch. 21E of the Massachusetts Oil and Hazardous Material Release Prevention and Response Act at the Site.

Pursuant to the Consent Decree Between United States of America, Commonwealth of Massachusetts and Textron Systems Corporation, Textron Systems Corporation will pay $5.6 million to the Army, through its Environmental Restoration Account; $800,000 to be deposited in a Special Account to pay EPA's future oversight costs relating to the Site; and $1.3 million to the Commonwealth and federal natural resources trustees for natural resource damage claims by the Commonwealth and the United States. In addition, Textron Systems Corporation will conduct decommissioning and removal of the site buildings, structures and debris from the MMR J-3 Range. The Decree provides Textron Systems Corporation with a covenant not to sue under the authorities listed above; it does not select the response actions at the Site, nor does it resolve the liability of other potentially responsible parties who remain available to perform work or provide other relief in connection with the Site.

The Department of Justice will receive for a period of 30 days from the date of this publication, comments relating to the settlement. Comments should be addressed to the Assistant Attorney General, Environment and Natural Resources Division, and either e-mailed to pubcommentees.enrd@usdoj.gov or mailed to P.O. Box 7611, U.S. Department of Justice, Washington, DC 20044-7611, and should refer to United States v. Textron Systems Corporation, D.J. Ref. 90-11-2-975/2.

In addition, pursuant to M.G.L. ch. 21E, comments on the Consent Decree may also be separately submitted to the Commonwealth of Massachusetts to the attention of Dale Young, Director, Natural Resource Damages Program, Executive Office of Energy and Environmental Affairs, 100 Cambridge Street, Suite 900, Boston, Massachusetts 02114. Pursuant to ch. 21E § 3A(j)(2), the Commonwealth may receive comments up to 120 days after the October 1, 2007 date of lodging of the Consent Decree.

The settlement may be examined at the Office of the United States Attorney, District of Massachusetts, United States Courthouse, 1 Courthouse Way—Suite 9200, Boston, Massachusetts 02210. During the federal public comment period, the settlement may also be examined on the following Department of Justice Web site: http://www.usdoj.gov/enrd/Consent_Decrees.html. A copy of the settlement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $13,50 (25 cents per page reproduction cost) payable to the U.S. Treasury or, if by e-mail or fax, forward a check in that amount to the Consent Decree Library at the stated address.

W. Benjamin Fisherow,
Deputy Chief, Environmental Enforcement Section, Environment and Natural Resources Division.

[FR Doc. 07-5023 Filed 10-11-07; 8:45 am]

BILLING CODE 4410-15-M